DEPARTMENT OF EDUCATION

National Assessment Governing Board; Meeting

AGENCY: National Assessment Governing Board; Education.

ACTION: Notice of open meeting and closed meetings.

SUMMARY: The notice sets forth the schedule and proposed agenda of a forthcoming meeting of the National Assessment Governing Board. This notice also describes the functions of the Board. Notice of this meeting is required under section 10(a)(2) of the Federal Advisory Committee Act. This document is intended to notify members of the general public of their opportunity to attend. Individuals who will need special accommodations in order to attend the meeting (i.e., interpreting services, assistive listening devices, materials in alternative format) should notify Munira Mwalimu at 202-357-6938 or at Munira.Mwalimu@ed.gov no later than February 25, 2005. We will attempt to meet requests after this date, but cannot guarantee availability of the requested accommodation. The meeting site is accessible to individuals with disabilities.

DATES: March 3-5, 2005.

Times:

March 3

Committee Meetings: Assessment Development Committee: Closed Session—12 p.m. to 2:30 p.m.;

Ad Hoc Committee on NAEP 12th Grade Participation: Open Session—2:30 p.m. to 4:15 p.m.;

Executive Committee: Open Session—4:30 p.m. to 5:30 p.m.; Closed session 5:30 p.m. to 6 p.m.

March 4

Full Board: Open Session—8 a.m. to 12 p.m.; Closed Session 12 p.m.-1 p.m.; Open session 1 p.m.-4 p.m.

Committee Meetings: Assessment Development Committee: Open Session—10 a.m. to 12 p.m.;

Committee on Standards, Design, and Methodology: Open Session—10 a.m. to 12 p.m.;

Reporting and Dissemination Committee: Open Session—10 a.m. to 12 p.m.;

March 5

Full Board: Open Session—8 a.m. to 12 p.m.; Closed Session—12 p.m. to 1 p.m.; Open Session—1 p.m. to 4 p.m. Location: Four Seasons Hotel, 98 San Jacinto Boulevard, Austin, Texas 78701.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). THe Board's responsibilities include selecting subject areas to be assessed, developing assessment objectives, developing appropriate student achievement levels for each grade and subject tested, developing guidelines for reporting and disseminating results, and developing standards and procedures for interstate and national comparisons.

The Assessment Development Committee will meet in closed session on March 3 from 12 p.m. to 2:30 p.m. to review secure test items for the National Assessment of Educational Progress (NAEP) 2009 Reading Assessment. The meeting must be conducted in closed session as disclosure of proposed test items from the NAEP assessments would significantly impede implementation of the NAEP program, and is therefore protected by exemption 9(B) of section 552b(c) of Title 5 U.S.C.

On March 3, the Ad Hoc Committee on NAEP 12th Grade Participation and Motivation will meet in open session from 2:30 p.m. to 4:15 p.m. The Executive Committee will meet in open session on March 3 from 4:30 p.m. to 6 p.m.

The Executive Committee will meet in closed session on March 3 from 5:30 p.m. to 6 p.m. to receive independent government cost estimates for contracts related to the National Assessment of Educational Progress (NAEP). This part of the meeting must be conducted in closed session because public disclosure of this information would likely have an adverse financial effect on the NAEP program and will provide an advantage to potential bidders attending the meeting. The discussion of this information would be likely to significantly impede implementation of a proposed agency action if conducted in open session. Such matters are protected by exemption 9(B) of section 552b(c) of Title 5 U.S.C.

On March 4, the full Board will meet in open session from 8:30 a.m. to 12 p.m. The Board will approve the agenda and the Chairman will introduce new Board members, who will then be administered the Oath of Office. The Board will then hear the Executive Director's report and receive an update on the work of the National Center for Education Statistics (NCES) from the Commissioner of NCES.

From 10 a.m. to 12 p.m. on March 4, the Board's standing committees—the Assessment Development Committee; the Committee on Standards, Design, and Methodology; and the Reporting and Dissemination Committee—will meet in open session.

On March 4, from 12 p.m. to 1 p.m., the full Board will meet in closed session. The Committee on Standards, Design, and Methodology will update the Board on the 12th grade Mathematics Achievement Level Setting Process and the Committee deliberations on January 11-12, 2005, in Jackson, Mississippi. The proposed achievement level cut scores and percent of students at each achievement level (Advanced, Proficient, Basic, and Below Basic) will be discussed with the Board for future approval. This information cannot be released to the public prior to the October release of the 2005 assessment in Mathematics. The No Child Left Behind Act of 2001 requires NAGB to release these data, in collaboration with NCES, after a thorough review of the data and report content for national and state release. These data constitute a major basis for the national release and cannot be released in an open meeting prior to the official release of the report. The meeting must be therefore be conducted in closed session as disclosure of data would significantly impede implementation of the NAEP program, and is therefore protected by exemption 9(B) of section 552b(c) of Title 5 U.S.C.

On March 4, the full Board will meet in open session from 1 p.m. to 4 p.m. Board members will receive and discuss preliminary recommendations from the Ad Hoc Committee on 12th Grade NAEP. This item will be followed by an update on the NAEP 2009 Science Framework contract from 2:30 p.m. to 3 p.m. The Board will then hear a presentation from ACT Inc., on recent research on readiness for college and training for work from 3 p.m. to 4 p.m. after which the March 4 session of the board meeting will adjourn.

On March 5, the Board's Nominations Committee will meet in open session from 8 a.m. to 9 a.m. The full Board will convene in open session on March 5 from 9 a.m. to 12 p.m.

From 9 a.m. to 10:30 a.m., the Board will hear a presentation on the High school initiative. Board actions on policies and Committee reports are scheduled to take place between 10:45 a.m. and 12 p.m., upon which the March 5, 2005 session of the Board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. eastern standard time.

Dated: February 9, 2005.
Sharif M. Shakrani,
Deputy Executive Director, National Assessment Governing Board.

[FR Doc. 05-2784 Filed 2-11-05; 8:45 am]

BILLING CODE 4000-01-M